DEPARTMENT OF STATE

[Public Notice: 12711]

Specially Designated Global Terrorist Designations of Viv Ansanm and Gran Grif

Acting under the authority of and in accordance with section 1(a)(ii)(A) of Executive Order 13224, as amended (“E.O. 13224” or “Order”), I hereby determine that the persons known as Viv Ansanm (also known as Living Together, G-9, G9 Family and Allies, G9 Fanmi e Alye, The Revolutionary Forces of the G9 Family and Allies, Fòs Revolisyoné G9 an Fanmi e Alye, G-Pèp, G-People); and Gran Grif (also known as Gran Grif gang, Gran Grif de Savien, Savien gang, Baz Gran Grif) are foreign persons who have committed or have attempted to commit, pose a significant risk of committing, or have participated in training to commit acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This determination shall be published in the Federal Register.

Dated: April 22, 2025.
Marco Rubio,
Secretary of State.

[FR Doc. 2025-07468 Filed 5-2-25; 8:45 am]

BILLING CODE 4710-AD-P